DEPARTMENT OF HEALTH AND HUMAN SERVICES

Food and Drug Administration

[Docket Nos. FDA-2012-D-0049, FDA-2018-N-3031, FDA-2021-N-1302, FDA-2022-N-0117, FDA-2013-N-0377, FDA-2013-N-0297, FDA-2012-D-0429, and FDA-2011-N-0921]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Reporting Harmful and Potentially Harmful Constituents in Tobacco Products and Tobacco Smoke Under the Federal Food, Drug, and Cosmetic Act | 0910-0732 | 8/31/2025
Tobacco Products, User Fees, Requirements for the Submission of Data Needed to Calculate User Fees for Domestic Manufacturers and Importers of Tobacco Products | 0910-0749 | 8/31/2025
Registration of Food Facilities | 0910-0502 | 9/30/2025
Authorization of Medical Products for Use Emergencies | 0910-0595 | 9/30/2025
Tobacco Health Document Submission | 0910-0654 | 9/30/2025
Production, Storage, and Transportation of Shell Eggs (preventing Salmonella Enteritidis (SE)) | 0910-0660 | 9/30/2025
Guidance on Meetings with Industry and Investigators on the Research and Development of Tobacco Products | 0910-0731 | 9/30/2025
Standards for the Growing, Harvesting, Packaging, and Holding of Produce for Human Consumption | 0910-0816 | 9/30/2025

Dated: October 3, 2022.
Lauren K. Roth,
Associate Commissioner for Policy.

[FR Doc. 2022-21864 Filed 10-6-22; 8:45 am]

BILLING CODE 4164-01-P